DEPARTMENT OF ENERGY

Federal Energy Regulatory Commission

[Project No. 4718-039]

Cocheco Falls Associates; Notice of Availability of Environmental Assessment

In accordance with the National Environmental Policy Act of 1969 and the Federal Energy Regulatory Commission's (Commission) regulations, 18 CFR part 380, the Office of Energy Projects has reviewed the relicense application for the Cocheco Falls Dam Hydroelectric Project No. 4718 (project), located on the Cocheco River in the City of Dover, Strafford County, New Hampshire, and has prepared an Environmental Assessment (EA) for the project. No federal land would be occupied by the project.

The EA contains staff's analysis of the potential environmental effects of the project and concludes that licensing the project, with appropriate environmental protection measures, would not constitute a major federal action that would significantly affect the quality of the human environment.

The Commission provides all interested persons with an opportunity to view and/or print the EA via the internet through the Commission's Home Page (https://www.ferc.gov) using the “eLibrary” link. Enter the docket number, excluding the last three digits in the docket number field, to access the document. For assistance, contact FERC Online Support at FERCOnlineSupport@ferc.gov, toll-free at (866) 208-3676, or for TTY, (202) 502-8659.

You may register online at https://ferconline.ferc.gov/eSubscription.aspx to be notified via email of new filings and issuances related to this or other pending projects. For assistance, contact FERC Online Support.

Any comments should be filed within 45 days from the date of this notice. The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filings, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4718-039.

For further information, contact Arash Barsari at (202) 502-6207, or by email at Arash.JalaliBarsari@ferc.gov.

Dated: September 21, 2022.
Kimberly D. Bose,
Secretary.

[FR Doc. 2022-20920 Filed 9-27-22; 8:45 am]

BILLING CODE 6717-01-P